DEPARTMENT OF EDUCATION

Office of Postsecondary Education; Strengthening Institutions (SIP), American Indian Tribally Controlled Colleges and Universities (TCCU), and Alaska Native and Native Hawaiian-Serving Institutions (ANNH) Programs; Developing Hispanic-Serving Institutions (HSIs) Program

AGENCY: Department of Education.

ACTION: Notice reopening application deadline dates for certain applicants.

SUMMARY: The Secretary reopens the deadline dates for certain applications for the Strengthening Institutions Program, American Indian Tribally Controlled Colleges and Universities Program, and Alaska Native and Native Hawaiian-Serving Institutions Programs announced in the Federal Register on January 31, 2003 (68 FR 5006), and for the Developing Hispanic-Serving Institutions Program announced in the Federal Register on January 29, 2003 (68 FR 4454). We are reopening the competitions for certain applicants due to conflicting information given at a Department-sponsored technical assistance workshop. At the workshop, potential applicants were given information about which parts of the application would not be included in the page limitation that conflicted with the information in the Federal Register notices. As a result of this confusion, we are allowing those applicants who submitted timely applications that exceeded the published page limit requirements to resubmit their applications by the deadline date below. The resubmitted applications must meet the page limit requirements published in the original closing date notices for the respective programs. Applicants whose original applications exceeded the page limit requirements who do not resubmit a new application that complies with the page limit requirements by the deadline below will not be considered for funding.

Deadline for Transmittal of Applications: Applications must be postmarked no later than June 23, 2003.

Transmittal of Applications: Resubmitted applications should be sent by hardcopy to the individuals and addresses noted below: Darlene Collins (Title III, Part A Programs), U.S. Department of Education, 1990 K Street, NW., 6th Floor, Washington, DC 20006-8513. Or, Louis Venuto (Title V Program), U.S. Department of Education, 1990 K Street, NW., 6th floor, Washington, DC 20006-8513.

FOR FURTHER INFORMATION CONTACT: For title III, part A programs: Darlene B. Collins, U.S. Department of Education, 1990 K Street, NW., 6th Floor, Washington, DC 20006-8513. Telephone: (202) 502-7576 or Thomas Keyes, U.S. Department of Education, 1990 K Street, NW., 6th Floor, Washington, DC 20006-8513. Telephone: (202) 502-7577 or via Internet: darlene.collins@ed.gov, thomas.keyes@ed.gov.

For title V program: Louis Venuto, U.S. Department of Education, 1990 K Street, NW., 6th floor, Washington, DC 20006-8513. Telephone: (202) 502-7763 or via Internet: louis.venuto@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: June 9, 2003.
Sally L. Stroup,
Assistant Secretary, Office of Postsecondary Education.

[FR Doc. 03-14951 Filed 6-12-03; 8:45 am]

BILLING CODE 4000-01-P